COMMITTEE FOR PURCHASE FROM PEOPLE WHO ARE BLIND OR SEVERELY DISABLED

Procurement List; Additions

AGENCY: Committee for Purchase From People Who Are Blind or Severely Disabled.

ACTION: Additions to the Procurement List.

SUMMARY: This action adds to the Procurement List commodities and services to be furnished by nonprofit agencies employing persons who are blind or have other severe disabilities.

EFFECTIVE DATE: November 5, 2001.

ADDRESS: Committee for Purchase From People Who Are Blind or Severely Disabled, Jefferson Plaza 2, Suite 10800, 1421 Jefferson Davis Highway, Arlington, Virginia 22202-3259.

FOR FURTHER INFORMATION CONTACT: Sheryl D. Kennerly (703) 603-7740.

SUPPLEMENTARY INFORMATION: On April 27, June 29, July 27, August 3, August 10 and August 17 the Committee for Purchase From People Who Are Blind or Severely Disabled published notices (66 FR 21118, 34611, 39142, 40671/72, 42198 and 43108) of proposed additions to the Procurement List. After consideration of the material presented to it concerning capability of qualified nonprofit agencies to provide the commodities and services and impact of the additions on the current or most recent contractors, the Committee has determined that the commodities and services listed below are suitable for procurement by the Federal Government under 41 U.S.C. 46-48c and 41 CFR 51-2.4.

I certify that the following action will not have a significant impact on a substantial number of small entities. The major factors considered for this certification were:

1. The action will not result in any additional reporting, recordkeeping or other compliance requirements for small entities other than the small organizations that will furnish the commodities and services to the Government.

2. The action will not have a severe economic impact on current contractors for the commodities and services.

3. The action will result in authorizing small entities to furnish the commodities and services to the Government.

4. There are no known regulatory alternatives which would accomplish the objectives of the Javits-Wagner-O'Day Act (41 U.S.C. 46-48c) in connection with the commodities and services proposed for addition to the Procurement List.

Accordingly, the following commodities and services are hereby added to the Procurement List:

Commodities

EcoLab Water Soluble Cleaners/Detergents

7930-00-NIB-0134

7930-00-NIB-0135

7930-00-NIB-0136

7930-00-NIB-0137

7930-00-NIB-0138

7930-01-380-6404

7930-01-418-1102

7930-01-418-1104

7930-01-436-8012

Cap, Cold Weather

8415-01-099-7843

8415-01-099-7844

8415-01-099-7845

8415-01-099-7846

8415-01-099-7847

8415-01-099-7848

(Remaining 50% of the Government Requirement)

Bag, Tote, Mesh

M.R. 512

Thermometer, Digital, Poultry/Steak & Probe, Analog

M.R. 811

M.R. 812

M.R. 813

M.R. 815

Brush, Pastry

M.R. 824

Mop, Anglematic, Deluxe, Refill

M.R. 1039

Cob Web Duster

M.R. 1044

Mop, Flat w/Scrubber Refill

M.R. 1048

Christmas Towel

M.R. 1050

Services

Family Housing Maintenance

Naval Base

Ventura County, California

Grounds Maintenance

Naval & Marine Corps Reserve Center

Encino, California

Janitorial/Custodial

At the following Federal Buildings in Baltimore, Maryland:

Middle River Depot, 2800 Eastern Blvd

Fallon Federal Building, 31 Hopkins Plaza

Fallon Federal Child Development Center, 200 W Lombard Street

U.S. Customs House, 40 S. Gay Street

Appraisers Stores Building, 103 S. Gay Street

Mailing Services

U.S. Army Engineer District, Detroit, Michigan

Switchboard Operation

At the Following:

Air Mobility Command Locations

Andrews Air Force Base, Maryland

Charleston Air Force Base, South Carolina

Dover Air Force Base, Delaware

Grand Forks Air Force Base, North Dakota

McChord Air Force Base, Washington

McConnell Air Force Base, Kansas

McGuire Air Force Base, New Jersey

Pope Air Force Base, North Carolina

Scott Air Force Base, Illinois

Travis Air Force Base, California

Fairchild Air Force Base, Washington

This action does not affect current contracts awarded prior to the effective date of this addition or options that may be exercised under those contracts.

Sheryl D. Kennerly,
Director, Information Management.

[FR Doc. 01-25043 Filed 10-4-01; 8:45 am]

BILLING CODE 6353-01-P